DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species Vessel Logbooks and Cost-Earnings Data Reports.

Form Number(s): None.

OMB Approval Number: 0648-0371.

Type of Request: Regular submission.

Burden Hours: 29,460.

Number of Respondents: 7,451.

Average Hours per Response: Trip reports with catch, 12 minutes; trip reports without catch, and no-trip reports, 2 minutes; cost-earnings and annual expenditure reports, 30 minutes.

Needs and Uses: The National Marine Fisheries Service (NMFS) seeks to renew an existing logbook information and cost-earnings data collection from fishermen who possess permits to fish for highly migratory species (HMS). This renewal would continue the successful HMS Vessel Logbook program and have several revisions. The revisions would: (1) Decrease the overall number of respondents based on recent information; (2) decrease the number of Atlantic tunas, shark, swordfish, and HMS Charter/Headboat permit holders based on recent information; (3) increase the number of Dolphin/Wahoo commercial and Charter/Headboat permit holders; and (4) decrease the burden estimate associated with the cost-earnings and logbook forms.

The information collected in logbooks and the cost-earnings form will help NMFS identify impacts of proposed regulatory measures on fishermen and the resource, consistent with applicable law such as the Magnuson-Stevens Fishery Conservation and Management Act and the Regulatory Flexibility Act.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: July 22, 2008.
Gwellnar Banks,
Management Analyst, Office of the Chief Information Officer.

[FR Doc. E8-17060 Filed 7-24-08; 8:45 am]

BILLING CODE 3510-22-P